DEPARTMENT OF AGRICULTURE

Submission for OMB Review; Comment Request

December 14, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@ OMB.EOP.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal and Plant Health Inspection Service

Title: Certificate for Poultry and Hatching Eggs for Export.

OMB Control Number: 0579-0048.

Summary of Collection: The export of agricultural commodities, including poultry and hatching eggs, is a major business in the United States and contributes to a favorable balance of trade. As part of its mission to facilitate the export of U.S. poultry and poultry products, the U.S. Department of Agriculture (USDA), Animal and Plant Health Inspection Service (APHIS), Veterinary Services, maintains information regarding the import health requirements of other countries for poultry and hatching eggs exported from the U.S. Most countries require a certification that our poultry and hatching eggs are disease free. Certificate for Poultry and Hatching Eggs for Export is authorized by 21 U.S.C. 112 and 113 which is used to certify the disease free status of poultry and hatching eggs exported from the United States. The regulation that implements this law is found in part 91 of title 9, Code of Federal Regulations.

Need and Use of the Information: APHIS will use VS form 17-6, Certificate for Poultry & Hatching Eggs for Export, to collect information on the quantity and type of poultry and hatching egg designated for export. The information collected is necessary to satisfy the import requirements of the receiving countries and to prevent unhealthy poultry or disease carrying hatching eggs from being exported from the United States, thereby protecting and encouraging trade with the United States and preventing the international dissemination of poultry diseases.

Description of Respondents: Farms; Federal government; State, local or tribal government; individuals or households; business or other for-profit.

Number of Respondents: 300.

Frequency of Responses: Reporting: On occasion.

Total Burden Hours: 10,500.

Animal Plant and Health Inspection Service

Title: Asian Long Horned Beetle Regulations.

OMB Control Number: 0579-0122.

Summary of Collection: The Animal and Plant Health Inspection Service (APHIS) of the Department of Agriculture is responsible for preventing plant pests and noxious weeds from entering the United States, preventing the spread of pests and weeds not widely distributed in the United States, and eradicating those imported pests and weeds when eradication is feasible. The Plant Protection and Quarantine program of APHIS is responsible for implementing the provisions of the Act and does so through the enforcement of its domestic quarantine regulations in 7 CFR part 301. The Asian Long Horned Beetle (ALB) is a destructive pest of hardwood trees that bore into the heartwood of host trees eventually killing them. APHIS regulations are designed to prevent the spread of the ALB within the United States.

Need and Use of the Information: APHIS will collect information to control and monitor the movement of the Asian Long Horned Beetle using several APHIS forms. If the information were not collected, the effectiveness of the Asian Long Horned Beetle Quarantine would be severely compromised.

Description of Respondents: Farms; business or other for profit; State, local or tribal government; individuals or households.

Number of Respondents: 475.

Frequency of Responses: Reporting: On occasion.

Total Burden Hours: 244.

Animal Plant and Health Inspection Service

Title: Importation of Hass Avocado from Mexico.

OMB Control Number: 0579-0129.

Summary of Collection: The Animal and Plant Health Inspection Service (APHIS) of the Department of Agriculture is responsible for preventing plant diseases or insect pests from entering the United States, preventing the spread of pests not widely distributed in the United States, and eradicating those imported when eradication is feasible. The Plant Protection Act (7 U.S.C. 7701-7772) authorizes APHIS to carry out this mission. APHIS will collect information from a variety of individuals, both within and outside of the United States, who are involved in growing, packing, handling, transporting, and importing foreign logs, trees, shrubs, and other articles. Currently, there are regulations that allow fresh Hass Avocado fruit grown in approved orchards in Michoacan, Mexico to be imported into the United States under certain conditions.

Need and Use of the Information: APHIS will collect information using forms PPQ 519, “Compliance Agreement” and PPQ 587, “Application for Permit to Import Plants or Plant Products.” The information collected will ensure that fresh Hass Avocados from Mexico do not harbor exotic insect pests.

Description of Respondents: Business or other for profit; State, local or tribal government.

Number of Respondents: 3,058.

Frequency of Responses: Recordkeeping; Reporting: On occasion.

Total Burden Hours: 4,823.

Animal and Plant Health Inspection Service

Title: Collaboration in Animal Health, Food Safety, and Epidemiology (CAHFSE) Swine Study.

OMB Control Number: 0579-NEW.

Summary of Collection: The Collaboration in Animal and Health and Food Safety Epidemiology (CAHFSE) Swine Study, is a joint effort among three agencies within the Department of Agriculture: Animal and Plant Health Inspection Service (APHIS); the Agricultural Research Service (ARS); and the Food Safety and Inspection Service (FSIS). The mission of this surveillance effort is twofold: to enhance overall understanding of bacteria that pose a food-safety risk by tracking these bacteria on-farm and through the harvesting process, over time; and to provide a means to routinely monitor critical diseases in food-animal production. To accomplish this mission, APHIS collects on-farm samples, FSIS collects slaughter plant data from plant managers, and ARS conducts laboratory examination of the samples collected on-farm or in-plant. 7 U.S.C. 391, the Animal Industry Act of 1884 and 21 U.S.C. 119, mandates collection and dissemination of animal and poultry health data and information.

Need and Use of the Information: APHIS will collect information using several forms. The collected information from the study will be disseminated to veterinary consultants/practitioners, industry and producers groups, and academia to monitor antimicrobial resistance and to identify problem areas in health management and feeding practices, which contribute to disease transmission. Without CAHFSE, the U.S.'s ability to detect trends in management, production, and the impact they have on animal health and food safety either directly or indirectly would be reduced or nonexistent.

Description of Respondents: Farms; Individuals or households; Federal government.

Number of Respondents: 530.

Frequency of Responses: Recordkeeping; reporting: on occasion; quarterly; monthly.

Total Burden Hours: 1,502.

Sondra Blakey,
Departmental Information Collection Clearance Officer.

>

[FR Doc. 04-27716 Filed 12-17-04; 8:45 am]

BILLING CODE 3410-34-P